DEPARTMENT OF DEFENSE

Office of the Secretary

[Docket ID: DoD-2021-OS-0102]

Submission for OMB Review; Comment Request

AGENCY: The Office of the Under Secretary of Defense for Acquisition and Sustainment (USD(A&S)), Department of Defense (DoD).

ACTION: 30-Day information collection notice.

SUMMARY: The Department of Defense has submitted to OMB for clearance the following proposal for collection of information under the provisions of the Paperwork Reduction Act.

DATES: Consideration will be given to all comments received by February 14, 2022.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Angela Duncan, 571-372-7574, whs.mc-alex.esd.mbx.dd-dod-information-collections@mail.mil.

SUPPLEMENTARY INFORMATION: Title; Associated Form; and OMB Number: Office of Local Defense Community Cooperation Military Installation Sustainability Program of Assistance Grant Proposals; OMB Control Number 0704-MISP.

Type of Request: New collection.

Number of Respondents: 12.

Responses per Respondent: 1.

Annual Responses: 12.

Average Burden per Response: 40 hours.

Annual Burden Hours: 480.

Needs and Uses: This information collection facilitates the awarding of grants under the Office of Local Defense Community Cooperation (OLDCC) Military Installation Resilience Program of Assistance. OLDCC, in coordination with the other Federal Agencies, delivers a program of technical and financial assistance to enable states and communities to plan and carry out civilian responses to workforce, business, and community needs arising from Defense actions; cooperate with their military installations and leverage public and private capabilities to deliver public infrastructure and services to enhance the military mission, achieve facility and infrastructure savings as well as reduced operating costs; and increase military, civilian, and industrial readiness and resiliency, and support military families. Respondents will be states, United States territories, counties, municipalities, other political subdivisions of a state, special purpose units of a state or local government, other instrumentalities of a state or local government, and tribal nations supporting a military installation or the defense industrial base. Grant proposal packages for the Military Installation Sustainability Program of Assistance will be prepared in accordance to the Federal Funding Opportunity Announcement posted in the Federal Register.

Affected Public: State, Local, or Tribal Government.

Frequency: Annually.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Ms. Angela Duncan.

Requests for copies of the information collection proposal should be sent to Ms. Duncan at whs.mc-alex.esd.mbx.dd-dod-information-collections@mail.mil.

Dated: January 11, 2022.
Aaron T. Siegel,
Alternate OSD Federal Register Liaison Officer, Department of Defense.

[FR Doc. 2022-00708 Filed 1-13-22; 8:45 am]

BILLING CODE 5001-06-P